DEPARTMENT OF COMMERCE

International Trade Administration

Private Sector Participation in Overseas Trade Missions

AGENCY: International Trade Administration, Department of Commerce.

ACTION: Notice.

SUMMARY: The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions dated March 3, 1997.

Computer, Telecommunications and Office Equipment (CTO) Forum and Seminar Mission, Lagos, Nigeria. March 15-16, 2001. Recruitment Closes on March 8, 2001.

FOR FURTHER INFORMATION CONTACT: Mr. Raymond Cho, U.S. Department of Commerce. Telephone 202-482-0396; or e-Mail: Raymond_Cho@ita.doc.gov

IT-Telecommunications Trade Mission to Russia, Moscow and St. Petersburg. May 12-19, 2001. Recruitment closes on April 6, 2001.

FOR FURTHER INFORMATION CONTACT: Ms. Beatrix Roberts, U.S. Department of Commerce. Telephone 202-482-2952; or e-Mail: Beatrix_Roberts@ita.doc.gov

U.S. Franchising Matchmaker Trade Delegation, Santiago, Chile and Sao Paulo, Brazil. June 4-9, 2001. Recruitment closes on April 20, 2001.

FOR FURTHER INFORMATION CONTACT: Mr. Sam Dhir, U.S. Department of Commerce. Telephone 202-482-4756; or e-Mail: Sam.Dhir@mail.doc.gov Trade mission applications received after the above closing dates will be considered only if space and scheduling constraints permit. For further information contact Mr. Reginald Beckham, U.S. Department of Commerce, telephone 202-482-5478, or e-mail Reginald_Beckham@ita.doc.gov

Dated: February 22, 2001.
Thomas H. Nisbet,
Director, Promotion Planning and Support Division, Office of Export Promotion Coordination.

[FR Doc. 01-4833 Filed 2-27-01; 8:45 am]

BILLING CODE 3510-DR-U